DEPARTMENT OF VETERANS AFFAIRS

[OMB Control No. 2900-0675]

Agency Information Collection Activity Under OMB Review: Agency Information Collection Activity: VetBiz Vendor Information Pages Verification Program

AGENCY: Center for Verification and Evaluation, Department of Veterans Affairs.

ACTION: Notice.

SUMMARY: In compliance with the Paperwork Reduction Act (PRA) of 1995, this notice announces that the Center for Verification and Evaluation, Department of Veterans Affairs, will submit the collection of information abstracted below to the Office of Management and Budget (OMB) for review and comment. The PRA submission describes the nature of the information collection and its expected cost and burden and it includes the actual data collection instrument.

DATES: Comments must be submitted on or before January 11, 2018.

ADDRESSES: Submit written comments on the collection of information through www.Regulations.gov, or to Office of Information and Regulatory Affairs, Office of Management and Budget, Attn: VA Desk Officer; 725 17th St. NW, Washington, DC 20503 or sent through electronic mail to oira_submission@omb.eop.gov. Please refer to “OMB Control No. 2900-0675” in any correspondence.

FOR FURTHER INFORMATION CONTACT: Cynthia Harvey-Pryor, Enterprise Records Service (005R1B), Department of Veterans Affairs, 810 Vermont Avenue NW, Washington, DC 20420, (202) 461-5870 or email cynthia.harvey-pryor@va.gov. Please refer to “OMB Control No. 2900-0675” in any correspondence.

SUPPLEMENTARY INFORMATION:

Authority: Public Law 104-13; 44 U.S.C. 3501-3521.

Title: Vetbiz Vendor Information Pages Verification Program, VA Form 0877.

OMB Control Number: 2900-0675.

Type of Review: Reinstatement of a previously approved collection.

Abstract: Vetbiz Vendor Information Pages Verification Program is used to assist federal agencies in identifying small businesses owned and controlled by veterans and service-connected disabled veterans. The information is necessary to ensure that veteran owned businesses are given the opportunity to participate in Federal contracts and receive contract solicitations information automatically. VA will use the data collected to verify small businesses as veteran-owned or service disabled veteran-owned.

An agency may not conduct or sponsor, and a person is not required to respond to a collection of information unless it displays a currently valid OMB control number. The Federal Register Notice with a 60-day comment period soliciting comments on this collection of information was published at 82 FR 133, on July 13, 2017, pages 32444 and 32445.

Affected Public: Business or other for profit.

Estimated Annual Burden: 10,000 hours.

Estimated Average Burden per Respondent: 30 minutes.

Frequency of Response: On occasion.

Estimated Number of Respondents: 20,000.

By direction of the Secretary.
Cynthia Harvey-Pryor,
Department Clearance Officer, Office of Quality, Privacy and Risk, Department of Veterans Affairs.

[FR Doc. 2017-26754 Filed 12-11-17; 8:45 am]

BILLING CODE 8320-01-P